DEPARTMENT OF HEALTH AND HUMAN SERVICES

National Advisory Committee on Seniors and Disasters and National Advisory Committee on Individuals With Disabilities and Disasters; Notice of Meeting

AGENCY: Office of the Assistant Secretary for Preparedness and Response (ASPR), Department of Health and Human Services (HHS).

ACTION: Notice of meeting.

SUMMARY: The National Advisory Committee on Seniors and Disasters (NACSD) and the National Advisory Committee on Individuals With Disabilities and Disasters (NACIDD), or Committees, were established by sections 2811B and 2811C, respectively, of the Public Health Service (PHS) Act, as amended by the Pandemic and All Hazards Preparedness and Advancing Innovation Act (PAHPAIA) of 2019. The Committees are governed by the provisions of the Federal Advisory Committee Act (FACA) and the General Services Administration FACA Final Rule. The Committees evaluate issues and programs and provide findings, advice, and recommendations to the Secretary of HHS to support and enhance all-hazards public health and medical preparedness, response, and recovery. The NACSD provides focus on the unique needs of older adults, while the NACIDD focuses on helping HHS meet the needs of people with disabilities (PWD). The Secretary of HHS has formally delegated authority to operate the NACSD and the NACIDD to ASPR.

DATES: The NACSD and NACIDD will conduct a joint, virtual, inaugural public meeting on March 30, 2022. The newly appointed members of the two advisory committees will be sworn in as Special Government Employees, followed by presentations and discussion of challenges, opportunities, and priorities for national public health and medical preparedness, response, and recovery specific to the needs of older adults and PWD in disasters. On April 1, 2022, the NACIDD will hold a second public meeting session dedicated specifically to addressing the needs of PWD; on April 6, 2022, the NACSD will hold a second public meeting session specifically to the needs of older adults. Agendas for all meeting and meeting registration links will be available on the Committees respective web page, https://www.phe.gov/nacsd and https://www.phe.gov/nacidd.

ADDRESSES: Members of the public may attend the meetings via a toll-free phone number or Zoom teleconference, which requires pre-registration. The meeting links to pre-register will be posted on https://www.phe.gov/nacsd and https://www.phe.gov/nacidd. Members of the public may provide written comments or submit questions for consideration via email to the NACSD (NACSD@hhs.gov) or the NACIDD (NACIDD@hhs.gov). Members of the public are also encouraged to provide comments after the meetings.

FOR FURTHER INFORMATION CONTACT: Dr. Maxine Kellman, NACSD Designated Federal Official, 202-260-0447, NACSD@hhs.gov; Tabinda Burney, NACIDD Designated Federal Official, 202-699-1779, NACIDD@hhs.gov. Office of the Assistant Secretary for Preparedness and Response (ASPR), Department of Health and Human Services (HHS), Washington, DC.

SUPPLEMENTARY INFORMATION: The NACSD and the NACIDD invite those who are involved in or represent academia, professional groups, advocacy organizations, or U.S. state, tribal, territorial, or local government to request up to four minutes to address the committees via Zoom. Requests to provide remarks during the public meetings must be sent via email to the NACSD (NACSD@hhs.gov) or the NACIDD (NACIDD@hhs.gov) at least 15 days prior to the meeting along with a brief description of the topic. We would specifically like to request inputs from the public on challenges, opportunities, and strategic priorities for national public health and medical preparedness, response, and recovery specific to the needs of people with disabilities and/or older adults before, during, and after disasters. Presenters who are selected for the public meetings will have audio only for up to four minutes during the meeting. Slides, documents, and other presentation material sent along with the request to speak will be provided to the committee members separately. Please indicate additionally whether the presenter will be willing to take questions from the committee members (at their discretion) immediately following their presentation (for up to four additional minutes).

Dawn O'Connell,
Assistant Secretary for Preparedness and Response.

[FR Doc. 2022-04651 Filed 3-3-22; 8:45 am]

BILLING CODE 4150-37-P